DEPARTMENT OF THE INTERIOR

Fish and Wildlife Service

[FWS-R4-R-2010-N241; 40136-1265-0000-S3]

J.N. “Ding” Darling NWR, Lee County, FL; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for J.N. “Ding” Darling National Wildlife Refuge (NWR). In the final CCP, we describe how we will manage this refuge for the next 15 years.

ADDRESSES: You may obtain a copy of the CCP by writing via U.S. mail to: Mr. Paul Tritaik, Project Leader, 1 Wildlife Drive, Sanibel, FL 33957, or DingDarling@fws.gov (e-mail). The CCP may also be accessed and downloaded from the Service's Web site: http://www.fws.gov/southeast/planning/ under “Final Documents.”

FOR FURTHER INFORMATION CONTACT: Mr. Paul Tritaik, at 239/472-1100 (telephone) or DingDarling@fws.gov (e-mail); or Ms. Cheri M. Ehrhardt, at 321/861-2368 (telephone) or DingDarling@fws.gov (e-mail).

SUPPLEMENTARY INFORMATION:

Introduction

With this notice, we finalize the CCP process for J.N. “Ding” Darling NWR. We started this process through notices in the Federal Register on June 27, 2007 (72 FR 35254) and April 2, 2008 (73 FR 17991).

The 6,406-acre refuge supports hundreds of species of wildlife and plants, providing protection for 14 Federal-listed and 49 State-listed species, migratory birds, and native wildlife and habitat diversity through a mix of habitats, including tropical hardwood forests, beaches, mangrove swamps, mixed wetland shrubs, salt marshes, open waters and seagrass beds, and lakes and canals. The refuge holds several special designations, including Wilderness Area, Research Natural Area, Marine Protected Area, Florida Important Bird Area, and Outstanding Florida Water. Annual visitation to the refuge exceeds 700,000.

We announce our decision and the availability of the final CCP and FONSI for J.N. “Ding” Darling NWR in accordance with the National Environmental Policy Act (NEPA) (40 CFR 1506.6(b)) requirements. We completed a thorough analysis of impacts on the human environment, which we included in the draft comprehensive conservation plan and environmental assessment (Draft CCP/EA).

The CCP will guide us in managing and administering J.N. “Ding” Darling NWR for the next 15 years. The following compatibility determinations are available in the CCP: (1) Wildlife observation and photography—including walking, hiking, motorized and non-motorized boating, and motorized and non-motorized trail use; (2) environmental education and interpretation—including walking, hiking, motorized and non-motorized boating, and motorized and non-motorized trail use; (3) fishing—including motorized and non-motorized boating and non-motorized trail use; (4) research; (5) commercial services; (6) commercial photography; (7) mosquito control; and (8) commercial bait fishing—including phasing out this use within the 15-year life of the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Administration Act.

Comments

We made copies of the Draft CCP/EA available for a 30-day public review and comment period via a Federal Register notice on May 17, 2010 (75 FR 27576). We received comments from local citizens, a local business, organizations, and State and local governmental agencies. Comments were also submitted through the State Clearinghouse for State agencies.

Selected Alternative

After considering the comments we received, we have selected Alternative C for implementation. The primary focus under Alternative C is migratory birds. Implementing Alternative C is expected to result in increased protection for breeding, nesting, resting, roosting, foraging, and migrating birds on the refuge. Increased information on a variety of species, suites of species, and habitats will enhance decision-making for the refuge. Further benefits will be realized from increased control of exotic, invasive, and nuisance species. We will coordinate with the partners to address concerns related to the impacts from water quality, quantity, and timing of flows and from climate change and sea level rise. Resource protection will be enhanced, including through increased information about cultural resources on the refuge, increased protection of cultural resources, additional special designations, improved management of the J.N. “Ding” Darling Wilderness Area, improved coordination with the partners to increase ethical outdoor behavior, enhanced visitor services programs, and addition of visitor facilities. To achieve this, we will work with governmental and non-governmental partners, area communities, the “Ding” Darling Wildlife Society, and local businesses, and we will pursue the addition of staff to address management concerns.

Alternative C is considered to be the most effective for meeting the purposes of the refuge and addressing the priority issues facing the refuge, including increasing and changing human population, development of the landscape, recreational uses and demands, and associated impacts; issues and impacts associated with water quality, water quantity, and timing of flows; invasion and spread of exotic, invasive, and nuisance species; climate change impacts; need for long-term protection of important resources; declines in and threats to rare, threatened, and endangered species; insufficient baseline wildlife and habitat data and lack of comprehensive habitat management plan; and lack of resources to address refuge needs.

Authority

This notice is published under the authority of the National Wildlife Refuge System Improvement Act of 1997, Public Law 105-57.

Dated: November 22, 2010.
Mark J. Musaus,
Acting Regional Director.

Editorial Note: This document was received in the Office of the Federal Register on March 21, 2011.

[FR Doc. 2011-6937 Filed 3-23-11; 8:45 am]

BILLING CODE 4310-55-P